DEPARTMENT OF AGRICULTURE

Forest Service

Helena National Forest, Montana, Tenmile—South Helena Vegetation Project

AGENCY: Forest Service, USDA.

ACTION: Notice of intent to prepare an environmental impact statement.

SUMMARY: The Helena National Forest is going to prepare an environmental impact statement for vegetation management actions in the Tenmile Municipal Watershed and the South Hills of the City of Helena east of the Continental Divide. The purpose of the project is to address the need to modify forest fuels accumulation in order to reduce the potential for high-severity wildfire effects within the City of Helena's Municipal Watershed, wildland urban interface, and surrounding area as well as provide for firefighter and public safety. Treatment activities are proposed on both Forest Service and Bureau of Land Management Lands (BLM).

DATES: Comments concerning the scope of the analysis must be received by November 28, 2014. The draft environmental impact statement is expected April 2015 and the final environmental impact statement is expected May 2016.

ADDRESSES: Send written comments to William Avey Helena and Lewis & Clark National Forests Supervisor, Helena National Forest, 2880 Skyway Dr., Helena, MT 59602. Comments may also be sent via email to comments-northern-helena@fs.fed.us, or via facsimile to 406-449-5436

It is important that reviewers provide their comments at such times and in such a way that they are useful to the Agency's preparation of the EIS. Therefore, comments should be provided prior to the close of the comment period and should clearly articulate the reviewer's concerns and contentions.

Comments received in response to this solicitation, including names and addresses of those who comment, will be part of the public record for this proposed action. Comments submitted anonymously will be accepted and considered, however.

FOR FURTHER INFORMATION CONTACT: Allen Byrd Team Leader, at 406-449-5201. Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the project is to maintain consistent quantity and quality of water within the municipal watershed and improve conditions for public and firefighters safety across the landscape in the event of a wildfire. In order to achieve this purpose, there is a need to create a mosaic of vegetation and fuel structure more resilient to disturbance which will provide for safer, more effective fire suppression actions. Reducing intensity of wildfires and increase fire suppression effectiveness would improve protection measures for the surrounding communities and key municipal watershed infrastructure. These actions would reduce the probability of post-wildfire watershed impacts in the Tenmile municipal watershed. In addition, sources of anthropogenic sediment to streams need to be addressed in order improve water quality, watershed function, and other resource values in the project area.

Proposed Action

Approximately 24,946 acres are proposed for treatment (24, 020 acres on Forest Service lands and 926 acres on BLM lands) which include a combination of commercial harvest of trees, non-commercial vegetation treatments, and prescribed fire. Mechanical and/or hand treatment methods would be used to accomplish treatment objectives. Proposed treatment activities include: Roughly 4,002 acres of Improvement Harvest; 11,194 acres of Low Severity Prescribed Fire; 2,420 acres of Mixed Severity Prescribed Fire; 470 acres of Precommercial Thinning; 2,231 acres of Private Land Buffers; and 4,629 acres of Regeneration Harvest. Up to 40-miles of new temporary and/or short-term specified road construction and approximately 80 miles of reconstruction of existing system road would be necessary to implement the proposed action. Temporary roads will be obliterated (restored to natural contours) upon completion of fuels removal operations. Site-specific amendments to the Helena National Forest (HNF) Plan standards pertaining to elk hiding cover, elk winter range, and elk thermal cover may be necessary in order to meet the project's purpose and need. Approximately 35 percent (8,803 acres) of the project area is located within the Jericho Mountain and Lazyman Gulch Inventoried Roadless Areas (IRAs). The Jericho Mountain IRA is 8,749 acres. Of this, 78 percent or 6,902 acres are within the project area boundary. Treatment activities are proposed on 45 percent or 3,958 acres within the Jericho Mountain IRA. The Lazyman Gulch IRA is 11,848 acres and is entirely within the project area boundary. Treatment activities are proposed on 40 percent or 4,845 acres of the Lazyman Gulch IRA. Proposed treatment activities in IRAs would include a combination of commercial harvest of trees, non-commercial vegetation treatments, and prescribed fire. Mechanical and/or hand treatments methods would be utilized to accomplish treatment objectives within both IRAs. Commercial transport of timber is proposed on Forest Service System roads 1863 and 1863-E1 which are located within the Jericho Mountain IRA. The current maintenance level of these roads is capable of supporting commercial activities and no re-construction of road features is necessary. Also, use of Forest Service system road 1864, located in the Jericho Mountain IRA, is proposed for the purpose of providing machine access into proposed treatment units. No commercial haul of timber is proposed on road 1864. No road construction of system or temporary roads is proposed within either IRA. The legal location of this project is: Township 10N RO6W Section 36; T10N RO5W Section 31; T10N R4W Section 34 & 35; T9N R6W Sections 1, 2, 11, 12, 13, 23, 24, 25, 26, 35, and 36; T9N R5W Sections 6, 7, 8, 9, 10, 11, 14, 15, 16, 17, 18, 19, 20, 21, 22, 23, 24, 25, 26, 27, 28, 29, 30, 31, 32, 33, 34, 35 and 36; T9N R4W Sections 1, 2, 3, 4, 5, 8, 9, 10, 11, 12, 13, 14, 15, 16, 17, 18, 19, 20, 21, 22, 23, 24, 26, 27, 28, 29, 30, 31, 32, 33, 34 and 35; T8N R6W Sections 1, 2, 12, 13, 14, 23, 24, 25 and 26; T8N R5W Sections 1, 2, 3, 4, 5, 6, 7, 8, 9, 10, 11, 12, 14, 15, 16, 17, 18, 19, 20, 21, 22, 29 and 30; T8N R4W sections 5, 6, 7, and 8.

Responsible Official

Helena and Lewis & Clark National Forests Forest Supervisor (Lead Agency) Bureau of Land Management Butte Field Manager

Nature of Decision To Be Made

The decisions to be made include: Whether to implement the proposed action or an alternative to the proposed action, what monitoring requirements would be appropriate to evaluate the implementation of this project, and whether a forest plan amendment would be necessary as a result of the decision for this project.

Scoping Process

This notice of intent initiates the scoping process, which guides the development of the environmental impact statement. In November 2014, a scoping notice (flyer) will be mailed to interested and affected parties directing them to the project's information which will be posted to the Helena National Forest's Web page (http://www.fs.usda.gov/helena/). The Web page will contain detailed project information, identification of when public meetings will be scheduled, project proposal maps, and other pertinent project information.

It is important that reviewers provide their comments at such times and in such manner that they are useful to the agency's preparation of the environmental impact statement. Therefore, comments should be provided prior to the close of the comment period and should clearly articulate the reviewer's concerns and contentions. The submission of timely and specific comments can affect a reviewer's ability to participate in the administrative objection process or any judicial review.

Dated: October 23, 2014.
William Avey,
Forest Supervisor.

[FR Doc. 2014-25687 Filed 10-28-14; 8:45 am]

BILLING CODE 3410-11-P